DEPARTMENT OF ENERGY

Federal Energy Regulatory Commission

Notice of Application for Non-Project Use of Project Lands and Waters and Soliciting Comments, Motions To Intervene, and Protests

November 8, 2006.

Take notice that the following application has been filed with the Commission and is available for public inspection:

a. Application Type: Non-Project Use of Project Lands and Waters.

b. Project No: 1494-300.

c. Date Filed: October 24, 2006.

d. Applicant: Grand River Dam Authority (GRDA).

e. Name of Project: The Pensacola Project.

f. Location: The project is located on the Grand (Neosho) River in Craig, Delaware, Mayes, and Ottawa Counties, Oklahoma. The proposed non-project use would occupy project lands and waters on Grand Lake O' the Cherokees in Sections 9 and 15, Township 24 North, and in Range 23 East in Delaware County.

g. Filed Pursuant to: Federal Power Act, 16 U.S.C. 791(a)-825(r) and 799 and 801.

h. Applicant Contact: Gretchen Zumwalt-Smith, General Counsel; Grand River Dam Authority; P.O. Box 409; Vinita, OK 74301; (918) 256-5545.

i. FERC Contact: Any questions on this notice should be addressed to Lesley Kordella at (202) 502-6406, or by e-mail: Lesley.Kordella@ferc.gov.

j. Deadline for filing comments and or motions: December 8, 2006.

All documents (original and eight copies) should be filed with: Ms. Magalie R. Salas, Secretary, Federal Energy Regulatory Commission, 888 First Street, NE., Washington, DC 20426. Please include the project number (P-1494-300) on any comments or motions filed. Comments, protests, and interventions may be filed electronically via the internet in lieu of paper. See, 18 CFR 385.2001(a)(1)(iii) and the instructions on the Commission's Web site under the “e-Filing” link. The Commission strongly encourages e-filings.

k. Description of Request: GRDA requests Commission approval to permit Peter Boylan, Shangri-La Marina Group, LLC to install 170 boat slips, 4 fuel slips, 4 personal watercraft (PWC) fueling ramps, 322 PWC lifts, and a ship store, fuel service, boat ramp and a breakwater for commercial purposes. In addition, GRDA requests Commission approval to permit the applicant to dredge two ponds located on the Shangri-La golf course adjacent to the lake and install four docks with 57 boat slips and 50 PWC slips for use by the Shangri-La residential community. The proposed action would require a waiver of current GRDA policies to allow docks to exceed the 125-foot maximum length and slips to be perpendicular to the shoreline.

l. Location of the Application: This filing is available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments: Federal, State, and local agencies are invited to file comments on the described applications. A copy of the applications may be obtained by agencies directly from the Applicant. If an agency does not file comments within the time specified for filing comments, it will be presumed to have no comments. One copy of an agency's comments must also be sent to the Applicant's representatives.

Magalie R. Salas,
Secretary.

[FR Doc. E6-19331 Filed 11-15-06; 8:45 am]

BILLING CODE 6717-01-P